DEPARTMENT OF HOMELAND SECURITY

Coast Guard

33 CFR Part 165

[Docket No. USCG-2019-0674]

Safety Zones; Annual Events Requiring Safety Zones in the Captain of the Port Lake Michigan Zone

AGENCY: Coast Guard, DHS.

ACTION: Notice of enforcement of regulation.

SUMMARY: The Coast Guard will enforce safety zones for the Fireworks at Pier Wisconsin in Milwaukee, WI and for the Sister Bay Marinafest Fireworks on August 31, 2019 from 8:30 p.m. through 10 p.m. to provide for the safety of life on navigable waterways during these events. During each enforcement period, no person or vessel may enter the respective safety zone without the permission of the Captain of the Port Lake Michigan

DATES: The regulations in 33 CFR 165.929 Table 165.929 listed as (e)(46) and (g)(3) will be enforced from 8:30 p.m. through 10 p.m. on August 31, 2019.

FOR FURTHER INFORMATION CONTACT: If you have questions about this notice of enforcement, call or email Chief Petty Officer Kyle Weitzell, U.S. Coast Guard; telephone 414-747-7148, email Kyle.W.Weitzell@uscg.mil.

SUPPLEMENTARY INFORMATION: The Coast Guard will enforce the Safety Zones; Annual Events in the Captain of the Port Lake Michigan zone listed in 33 CFR 165.929 for the following events:

(1) Fireworks at Pier Wisconsin, Milwaukee, WI; The safety zone listed in Table 165.929(e)(46) will be enforced for all waters of Milwaukee Harbor including Lakeshore Inlet and the marina at Pier Wisconsin within the arc of a circle with a 300-foot radius from the fireworks launch site on Pier Wisconsin located in approximate position 43°02.178′ N, 087°53.625′ W from 8:30 p.m. through 10 p.m. on August 31, 2019.

(2) Sister Bay Marinafest Fireworks, Sister Bay, WI; The safety zone listed in Table 165.929(g)(3) will be enforced for all waters of Sister Bay within an 800-foot radius of position 45°11.585′ N, 087°07.392′ W from 8:30 p.m. through 10 p.m. on August 31, 2019.

This action is being taken to provide for the safety of life on navigable waterways during these annually recurring fireworks events. During the enforcement periods, as reflected in § 165.929(a)(3), if you are the operator of a vessel in the regulated area you must comply with directions from the Patrol Commander or any Official Patrol displaying a Coast Guard ensign. Pursuant to 33 CFR 165.23, entry into, transiting, or anchoring within the safety zones during an enforcement period is prohibited unless authorized by the Captain of the Port Lake Michigan or a designated representative. Those seeking permission to enter the safety zones may request permission from the Captain of Port Lake Michigan via channel 16, VHF-FM.

This notice of enforcement is issued under authority of 33 CFR 165.929 and 5 U.S.C. 552(a). In addition to this notice of enforcement in the Federal Register, the Coast Guard will provide the maritime community with advance notification of this enforcement period via Broadcast Notice to Mariners or Local Notice to Mariners. If the Captain of the Port Lake Michigan determines that the safety zone need not be enforced for the full duration stated in this notice he or she may use a Broadcast Notice to Mariners to grant general permission to enter the respective safety zone.

Dated: July 31, 2019.
T.J. Stuhlreyer,
Captain, U.S. Coast Guard, Captain of the Port Sector Lake Michigan.

[FR Doc. 2019-16795 Filed 8-6-19; 8:45 am]

BILLING CODE 9110-04-P